DEPARTMENT OF HEALTH AND HUMAN SERVICES

National Institutes of Health

All of Us Research Program, Tribal Consultation Meetings and Listening Sessions; Correction

AGENCY: National Institutes of Health, HHS.

ACTION: Notice; correction.

SUMMARY: The Department of Health and Human Services, National Institutes of Health published a Notice in the Federal Register on June 3, 2019. That Notice requires a correction in the DATES and SUPPLEMENTARY INFORMATION sections.

FOR FURTHER INFORMATION CONTACT: The All of Us Tribal Engagement team by phone at 240-515-5317, by email at AOUTribal@nih.gov, or by mail at 6011 Executive Boulevard, Suite 214, Rockville, MD 20852.

SUPPLEMENTARY INFORMATION: On June 3, 2019, the Department of Health and Human Services, National Institutes of Health published a Notice in the Federal Register on pages 25551-25552 (84 FR 25551) that provided two dates for the HHS Regional Consultation, Regions 1-4 (Washington, DC) session to take place on July 16, 2019 and August 21, 2019. The purpose of this Notice is to correct the date within the Dates and Supplemental Information sections for the Regional Washington DC consultation session to read: July 17, 2019. A full schedule of consultations and listening sessions will be made available on the All of Us Tribal Engagement web page at https://AllofUs.nih.gov/All-Us-Tribal-Engagement.

Dated: July 8, 2019.
Daniel R. Hernandez,
Federal Register Officer, National Institutes of Health.

[FR Doc. 2019-14861 Filed 7-11-19; 8:45 am]

BILLING CODE 4140-01-P